NATIONAL FOUNDATION ON THE ARTS AND THE HUMANITIES

Meetings of Humanities Panel

AGENCY: National Endowment for the Humanities.

ACTION: Notice of meetings.

SUMMARY: Pursuant to section 10(a)(2) of the Federal Advisory Committee Act (5 U.S.C. App.), notice is hereby given that twelve meetings of the Humanities Panel will be held during December, 2013 as follows. The purpose of the meetings is for panel review, discussion, evaluation, and recommendation of applications for financial assistance under the National Foundation on the Arts and Humanities Act of 1965 (20 U.S.C. 951-960, as amended).

DATES: See SUPPLEMENTARY INFORMATION section for meeting dates.

ADDRESSES: The meetings will be held at the Old Post Office Building, 1100 Pennsylvania Ave. NW., Washington, DC 20506, unless otherwise indicated. See SUPPLEMENTARY INFORMATION section for meeting room numbers.

FOR FURTHER INFORMATION CONTACT: Lisette Voyatzis, Committee Management Officer, 1100 Pennsylvania Ave. NW., Room 529, Washington, DC 20506, or call (202) 606-8322. Hearing-impaired individuals are advised that information on this matter may be obtained by contacting the National Endowment for the Humanities' TDD terminal at (202) 606-8282.

SUPPLEMENTARY INFORMATION:

Meetings

1. DATE: December 03, 2013.

TIME: 8:30 a.m. to 5:00 p.m.

ROOM: 415.

This meeting will discuss applications on the subjects of Music and Performing Arts for the Humanities Collections and Reference Resources grant program, submitted to the Division of Preservation and Access.

2. DATE: December 04, 2013.

TIME: 8:30 a.m. to 5:00 p.m.

ROOM: 402.

This meeting will discuss applications on the subject of Scholarly Communications for the Digital Humanities Start Up Grants grant program, submitted to the Office of Digital Humanities.

3. DATE: December 05, 2013.

TIME: 8:30 a.m. to 5:00 p.m.

ROOM: 402.

This meeting will discuss applications on the subject of Research for the Digital Humanities Start Up Grants grant program, submitted to the Office of Digital Humanities.

4. DATE: December 05, 2013.

TIME: 8:30 a.m. to 5:00 p.m.

ROOM: 415.

This meeting will discuss applications on the subject of American Studies for the Humanities Collections and Reference Resources grant program, submitted to the Division of Preservation and Access.

5. DATE: December 06, 2013.

TIME: 8:30 a.m. to 5:00 p.m.

ROOM: 402.

This meeting will discuss applications on the subject of Research for the Digital Humanities Start Up Grants grant program, submitted to the Office of Digital Humanities.

6. DATE: December 09, 2013.

TIME: 8:30 a.m. to 5:00 p.m.

ROOM: 402.

This meeting will discuss applications on the subjects of Archives and Collections for the Digital Humanities Start Up Grants grant program, submitted to the Office of Digital Humanities.

7. DATE: December 10, 2013.

TIME: 8:30 a.m. to 5:00 p.m.

ROOM: 415.

This meeting will discuss applications on the subject of Historical Geography for the Humanities Collections and Reference Resources grant program, submitted to the Division of Preservation and Access.

8. DATE: December 10, 2013.

TIME: 8:30 a.m. to 5:00 p.m.

ROOM: 402.

This meeting will discuss applications on the subjects of Geospatial and Visualization for the Digital Humanities Start Up Grants grant program, submitted to the Office of Digital Humanities.

9. DATE: December 11, 2013.

TIME: 8:30 a.m. to 5:00 p.m.

ROOM: 402.

This meeting will discuss applications on the subject of New Media for the Digital Humanities Start Up Grants grant program, submitted to the Office of Digital Humanities.

10. DATE: December 12, 2013.

TIME: 8:30 a.m. to 5:00 p.m.

ROOM: 402.

This meeting will discuss applications on the subject of Education for the Digital Humanities Start Up Grants grant program, submitted to the Office of Digital Humanities.

11. DATE: December 13, 2013.

TIME: 8:30 a.m. to 5:00 p.m.

ROOM: 402.

This meeting will discuss applications on the subjects of Archives and Collections for the Digital Humanities Start Up Grants grant program, submitted to the Office of Digital Humanities.

12. DATE: December 16, 2013.

TIME: 8:30 a.m. to 5:00 p.m.

ROOM: 402.

This meeting will discuss applications on the subject of Public Programs for the Digital Humanities Start Up Grants grant program, submitted to the Office of Digital Humanities.

Because these meetings will include review of personal and/or proprietary financial and commercial information given in confidence to the agency by grant applicants, the meetings will be closed to the public pursuant to sections 552b(c)(4) and 552b(c)(6) of Title 5 U.S.C., as amended. I have made this determination pursuant to the authority granted me by the Chairman's Delegation of Authority to Close Advisory Committee Meetings dated July 19, 1993.

Dated: November 12, 2013.
Lisette Voyatzis,
Committee Management Officer.

[FR Doc. 2013-27572 Filed 11-18-13; 8:45 am]

BILLING CODE 7536-01-P